NATIONAL FOUNDATION ON THE ARTS AND THE HUMANITIES

National Endowment for the Arts; Public Availability of the National Endowment for the Arts' FY 2010 Service Contract Inventory

AGENCY: National Endowment for the Arts.

ACTION: Notice.

SUMMARY: In accordance with Section 743 of Division C of the Consolidated Appropriations Act of 2010 (Pub. L. 111-117), the National Endowment for the Arts is publishing this notice to advise the public of the availability of its FY 2010 Service Contract inventory. This inventory provides information on service contract actions over $25,000 that were made in FY 2010. The information is organized by function to show how contracted resources are distributed throughout the Agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The National Endowment for the Arts has posted its inventory and a summary of the inventory on its Web site at the following link: http://www.arts.gov/about/Commercial/index.html.

FOR FURTHER INFORMATION CONTACT: Questions regarding the service contract inventory should be directed to Ned Read in the Office of the Deputy Chairman for Management and Budget at 202-682-5782 or readn@arts.gov.

Dated: February 23, 2011.
Kathy Plowitz-Worden,
Office of Guidelines and Panel Operations, National Endowment for the Arts.

[FR Doc. 2011-4342 Filed 2-25-11; 8:45 am]

BILLING CODE 7537-01-P